DEPARTMENT OF TRANSPORTATION

Federal Aviation Administration

14 CFR Part 71

[Docket No. FAA-2023-1006; Airspace Docket No. 22-AWP-65]

RIN 2120-AA66

Modification of Class E Airspace; Minden-Tahoe Airport, Minden, NV

AGENCY: Federal Aviation Administration (FAA), DOT.

ACTION: Final rule.

SUMMARY: This action modifies Class E airspace extending upward from 700 feet above the surface at Minden-Tahoe Airport, Minden, NV. Additionally, this action makes administrative amendments to update the airport's Class E airspace legal description. These actions support the safety and management of instrument flight rules (IFR) operations at the airport.

DATES: Effective 0901 UTC, March 21, 2024. The Director of the Federal Register approves this incorporation by reference action under 1 CFR part 51, subject to the annual revision of FAA Order 7400.11, Airspace Designations and Reporting Points, and publication of conforming amendments.

ADDRESSES: Copies of the Notice of Proposed Rulemaking (NPRM) and Supplemental NPRM (SNPRM), all comments received, this final rule, and all background material may be viewed online at www.regulations.gov using the FAA Docket number. Electronic retrieval help and guidelines are available on the website. It is available 24 hours each day, 365 days each year.

FAA Order 7400.11H, and subsequent amendments, can be viewed online at www.faa.gov/air_traffic/publications/. You may also contact the Rules and Regulations Group, Office of Policy, Federal Aviation Administration, 800 Independence Avenue SW, Washington, DC 20591; telephone: (202) 267-8783.

FOR FURTHER INFORMATION CONTACT: Keith Adams, Federal Aviation Administration, Western Service Center, Operations Support Group, 2200 S 216th Street, Des Moines, WA 98198; telephone (206) 231-2428.

SUPPLEMENTARY INFORMATION:

Authority for This Rulemaking

The FAA's authority to issue rules regarding aviation safety is found in Title 49 of the United States Code. Subtitle I, Section 106, describes the authority of the FAA Administrator. Subtitle VII, Aviation Programs, describes in more detail the scope of the agency's authority. This rulemaking is promulgated under the authority described in Subtitle VII, Part A, Subpart I, Section 40103. Under that section, the FAA is charged with prescribing regulations to assign the use of airspace necessary to ensure the safety of aircraft and the efficient use of airspace. This regulation is within the scope of that authority as it modifies Class E airspace to support IFR operations at Minden-Tahoe Airport, Minden, NV.

History

The FAA published a notice of proposed rulemaking for Docket No. FAA-2023-1006 in the Federal Register on August 10, 2023 (88 FR 54252), followed by an SNPRM (88 FR 72971, October 24, 2023) to modify Class E airspace at Minden-Tahoe Airport, Minden, NV. Interested parties were invited to participate in this rulemaking effort by submitting written comments on the proposal to the FAA. One comment was received from a local glider pilot requesting a glider area or corridor for glider operations in the airspace. This action already reduces the size of the Class E airspace restoring airspace that is available for glider operations without contacting Air Traffic Control.

Incorporation by Reference

Class E5 airspace areas are published in paragraph 6005 of FAA Order 7400.11, Airspace Designations and Reporting Points, which is incorporated by reference in 14 CFR 71.1 on an annual basis. This document amends the current version of that order, FAA Order JO 7400.11H, dated August 11, 2023, and effective September 15, 2023. FAA Order JO 7400.11H is publicly available as listed in the ADDRESSES section of this document. These amendments will be published in the next update to FAA Order JO 7400.11.

FAA Order JO 7400.11H lists Class A, B, C, D, and E airspace areas, air traffic service routes, and reporting points.

The Rule

This action amends 14 CFR part 71 by modifying Class E airspace extending upward from 700 feet above the surface at Minden-Tahoe Airport, Minden, NV, by reducing the radius 2.3 miles to be within a 4.2-mile radius of Minden-Tahoe Airport, NV. In addition, the Class E airspace extending upward from 700 feet above the surface is established within 2 miles each side of the 001° bearing from the airport, extending from the 4.2-mile radius to 8.9 miles north of the airport. Furthermore, Class E airspace extending upward from 700 feet above the surface is established within 1.1 miles each side of the 180° bearing from the airport, extending from the 4.2-mile radius to 7 miles south of the airport. This airspace would contain IFR departures to 1,200 feet above the surface and IFR arrivals below 1,500 feet above the surface.

Finally, the administrative portion of the airport's associated legal description is modified to update the geographic coordinates located on line three of the text header to match the FAA's database.

Regulatory Notices and Analyses

The FAA has determined that this regulation only involves an established body of technical regulations for which frequent and routine amendments are necessary to keep them operationally current, is non-controversial, and unlikely to result in adverse or negative comments. It, therefore: (1) is not a “significant regulatory action” under Executive Order 12866; (2) is not a “significant rule” under DOT Regulatory Policies and Procedures (44 FR 11034; February 26, 1979); and (3) does not warrant preparation of a regulatory evaluation as the anticipated impact is so minimal. Since this is a routine matter that will only affect air traffic procedures and air navigation, it is certified that this rule, when promulgated, would not have a significant economic impact on a substantial number of small entities under the criteria of the Regulatory Flexibility Act.

Environmental Review

The FAA has determined that this action qualifies for categorical exclusion under the National Environmental Policy Act in accordance with FAA Order 1050.1F, “Environmental Impacts: Policies and Procedures,” paragraph 5-6.5a. This airspace action is not expected to cause any potentially significant environmental impacts, and no extraordinary circumstances exist that warrant preparation of an environmental assessment.

List of Subjects in 14 CFR Part 71

Airspace, Incorporation by reference, Navigation (air).

The Amendment

In consideration of the foregoing, the Federal Aviation Administration amends 14 CFR part 71 as follows:

PART 71—DESIGNATION OF CLASS A, B, C, D, AND E AIRSPACE AREAS; AIR TRAFFIC SERVICE ROUTES; AND REPORTING POINTS

1. The authority citation for 14 CFR part 71 continues to read as follows:

Authority: 49 U.S.C. 106(f), 106(g), 40103, 40113, 40120; E.O. 10854, 24 FR 9565, 3 CFR, 1959-1963 Comp., p. 389.

§ 71.1 [Amended]

2. The incorporation by reference in 14 CFR 71.1 of FAA Order JO 7400.11H, Airspace Designations and Reporting Points, dated August 11, 2023, and effective September 15, 2023, is amended as follows:

Paragraph 6005 Class E Airspace Areas Extending Upward From 700 Feet or More Above the Surface of the Earth.

* * * * *

AWP CA E5 Minden, NV [Amended]

Minden-Tahoe Airport, NV

(Lat. 39°00′02″ N, long. 119°45′04″ W)

That airspace extending upward from 700 feet above the surface within a 4.2-mile radius of the airport, that airspace 2 miles each side of a 001° bearing extending from the 4.2-mile radius to 8.9 miles north of the airport, and that airspace 1.2 miles each side of a 180° bearing extending from the 4.2-mile radius to 7 miles south of the airport.

* * * * *

Issued in Des Moines, Washington, on December 18, 2023.
B.G. Chew,
Group Manager, Western Service Center, Operations Support Group.

[FR Doc. 2023-28228 Filed 12-21-23; 8:45 am]

BILLING CODE 4910-13-P